DEPARTMENT OF COMMERCE

International Trade Administration

[A-588-869]

Diffusion-Annealed, Nickel-Plated Flat-Rolled Steel Products From Japan: Final Results of Antidumping Duty Administrative Review; 2013-2015

AGENCY: Enforcement and Compliance, International Trade Administration, Department of Commerce.

SUMMARY: On June 17, 2016, the Department of Commerce (the Department) published the preliminary results of the administrative review of the antidumping duty order on diffusion-annealed, nickel-plated flat rolled steel products from Japan.¹ The review covers one company, Toyo Kohan Co., Ltd. (Toyo Kohan). The period of review (POR) is November 19, 2013 through April 30, 2015. As a result of our analysis of the comments and information received, these final results do not differ from the Preliminary Results.

¹ See Diffusion-Annealed, Nickel-Plated Flat-Rolled Steel Products from Japan: Preliminary Results of Antidumping Duty Administrative Review; 2013-2015, 81 FR 39627 (June 17, 2016) (Preliminary Results).

DATES: Effective December 16, 2016.

FOR FURTHER INFORMATION CONTACT: Dena Crossland or Brian Davis, AD/CVD Operations, Office VI, Enforcement and Compliance, International Trade Administration, U.S. Department of Commerce, 1401 Constitution Avenue NW., Washington, DC 20230; telephone: (202) 482-3362 or (202) 482-7924, respectively.

SUPPLEMENTARY INFORMATION:

Background

On June 17, 2016, the Department published the Preliminary Results. In accordance with 19 CFR 351.309(c)(1)(ii), we invited parties to comment on our Preliminary Results.² We received a case brief from Thomas Steel Strip Corporation (Petitioner) on August 1, 2016,³ and a rebuttal brief from Toyo Kohan on August 12, 2016.⁴

² See Preliminary Results, 81 FR at 39628.

³ See Case Brief of Thomas Steel Strip Corporation, dated August 1, 2016 (Petitioner's Case Brief).

⁴ See Letter from Toyo Kohan to the Department of Commerce regarding “Toyo Kohan's Rebuttal Brief: Diffusion-Annealed, Nickel-Plated Flat-Rolled Steel Products from Japan,” dated August 12, 2016 (Toyo Kohan's Rebuttal Brief).

On October 13, 2016, the Department issued a memorandum extending the time period for issuing the final results of this administrative review from October 15, 2016, to December 9, 2016.⁵

⁵ See Memorandum to Christian Marsh, Deputy Assistant Secretary for Antidumping and Countervailing Duty Operations, from Dena Crossland, International Trade Compliance Analyst, Antidumping and Countervailing Duty Operations, Office VI, through Scot Fullerton, Antidumping and Countervailing Duty Operations, Office VI, on the subject of “Diffusion-Annealed, Nickel-Plated Flat-Rolled Steel Products from Japan: Extension of Deadline for Final Results of Antidumping; 2013/2015,” dated October 13, 2016.

Scope of the Order

The diffusion-annealed, nickel-plated flat-rolled steel products included in this order are flat-rolled, cold-reduced steel products, regardless of chemistry; whether or not in coils; either plated or coated with nickel or nickel-based alloys and subsequently annealed (i.e., “diffusion-annealed”); whether or not painted, varnished or coated with plastics or other metallic or nonmetallic substances; and less than or equal to 2.0 mm in nominal thickness. For purposes of this order, “nickel-based alloys” include all nickel alloys with other metals in which nickel accounts for at least 80 percent of the alloy by volume.

Imports of merchandise included in the scope of this order are classified primarily under Harmonized Tariff Schedule of the United States (HTSUS) subheadings 7212.50.0000 and 7210.90.6000, but may also be classified under HTSUS subheadings 7210.70.6090, 7212.40.1000, 7212.40.5000, 7219.90.0020, 7219.90.0025, 7219.90.0060, 7219.90.0080, 7220.90.0010, 7220.90.0015, 7225.99.0090, or 7226.99.0180. Although the HTSUS subheadings are provided for convenience and customs purposes, the written description of the scope of this order is dispositive.

Analysis of Comments Received

All issues raised in the case and rebuttal briefs by parties to this administrative review are addressed in the Issues and Decision Memorandum, which is hereby adopted by this notice.⁶ A list of the issues that parties raised and to which we responded is attached to this notice as an Appendix. The Issues and Decision Memorandum is a public document and is on-file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly on the Internet at http://enforcement.trade.gov/frn/index.html. The signed Issues and Decision Memorandum and the electronic version of the Issues and Decision Memorandum are identical in content.

⁶ See Memorandum from Christian Marsh, Deputy Assistant Secretary for Antidumping and Countervailing Duty Operations, to Paul Piquado, Assistant Secretary for Enforcement and Compliance entitled “Issues and Decision Memorandum for the Final Results of Administrative Review, 2013-2015: Diffusion-Annealed, Nickel-Plated Flat-Rolled Steel Products from Japan,” dated concurrently with this notice (Issues and Decision Memorandum).

Changes Since the Preliminary Results

Based on a review of the record and comments received from interested parties regarding our Preliminary Results, we have not recalculated Toyo Kohan's weighted-average dumping margin for these final results.

Final Results of Review

The Department determines that, for the period November 19, 2013, through April 30, 2015, the weighted-average dumping margin for Toyo Kohan Co., Ltd. is zero.

Duty Assessment

The Department shall determine and U.S. Customs and Border Protection (CBP) shall assess antidumping duties on all appropriate entries.⁷ Because Toyo Kohan's weighted-average dumping margin is zero for these final results of review, we will instruct CBP not to assess duties on any of its entries in accordance with 19 CFR 351.212 and the Final Modification for Reviews, i.e., “{w}here the weighted-average margin of dumping for the exporter is determined to be zero or de minimis, no antidumping duties will be assessed.” ⁸ The final results of this review shall be the basis for the assessment of antidumping duties on entries of merchandise covered by the final results of this review and for future deposits of estimated duties, where applicable.

⁷ In these final results, the Department applied the assessment rate calculation method adopted in Antidumping Proceedings: Calculation of the Weighted-Average Dumping Margin and Assessment Rate in Certain Antidumping Proceedings: Final Modification, 77 FR 8101 (February 14, 2012) (Final Modification for Reviews).

⁸ Id. at 8102.

For entries of subject merchandise during the POR produced by Toyo Kohan for which it did not know its merchandise was destined for the United States, we will instruct CBP to liquidate unreviewed entries at the all-others rate if there is no rate for intermediate company(ies) involved in the transaction. The all-others rate is 45.42 percent.⁹ We intend to issue assessment instructions directly to CBP 15 days after publication of the final results of this review.

⁹ See Diffusion-Annealed, Nickel-Plated Flat-Rolled Steel Products from Japan: Antidumping Duty Order, 79 FR 30816, 30817 (May 29, 2014) (Order).

Cash Deposit Requirements

The following cash deposit requirements will be effective upon publication of this notice for all shipments of subject merchandise entered, or withdrawn from warehouse, for consumption on or after the publication of these final results, as provided by section 751(a)(2) of the Tariff Act of 1930, as amended (Act): (1) No cash deposit will be required for Toyo Kohan since the rate for Toyo Kohan in the final results of this administrative review is zero; (2) for merchandise exported by manufacturers or exporters not covered in this administrative review but covered in a prior segment of the proceeding, the cash deposit rate will continue to be the company-specific rate published for the most recently completed segment of this proceeding in which that manufacturer or exporter participated; (3) if the exporter is not a firm covered in this review, a prior review, or the original investigation, but the manufacturer is, the cash deposit rate will be the rate established for the most recently completed segment of this proceeding for the manufacturer of the subject merchandise; and (4) the cash deposit rate for all other manufacturers or exporters will continue to be 45.42 percent, the all-others rate established in the antidumping investigation.¹⁰ These cash deposit requirements, when imposed, shall remain in effect until further notice.

¹⁰ Id.

Notification to Importers Regarding the Reimbursement of Duties

This notice also serves as a final reminder to importers of their responsibility under 19 CFR 351.402(f) to file a certificate regarding the reimbursement of antidumping duties prior to liquidation of the relevant entries during the POR. Failure to comply with this requirement could result in the Department's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: December 9, 2016.
Paul Piquado,
Assistant Secretary for Enforcement and Compliance.

Appendix—List of Topics Discussed in the Final Issues and Decision Memorandum

I. Summary

II. List of Issues

III. Background

IV. Scope of the Order

V. Discussion of Interested Party Comments

Comment 1: Whether Certain of Toyo Kohan's Home Market Transactions Were Made Outside the Ordinary Course of Trade and Should Be Excluded From Analysis

Comment 2: U.S. Date of Sale

Comment 3: Whether the Costs for a Certain Control Number Should Be Disregarded

VI. Recommendation

[FR Doc. 2016-30306 Filed 12-15-16; 8:45 am]

BILLING CODE 3510-DS-P